FEDERAL COMMUNICATIONS COMMISSION

Notice of Public Information Collection(s) Being Reviewed by the Federal Communications Commission

May 12, 2003.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before July 22, 2003. If you anticipate that you will be submitting PRA comments, but find it difficult to do so within the period of time allowed by this notice, you should advise the contact listed below as soon as possible.

ADDRESSES: Direct all Paperwork Reduction Act (PRA) comments to Judith B. Herman, Federal Communications Commission, Room 1-C804, 445 12th Street, SW., Washington, DC 20554 or via the Internet to Judith-B.Herman@fcc.gov.

FOR FURTHER INFORMATION CONTACT: For additional information or copies of the information collection(s), contact Judith B. Herman at 202-418-0214 or via the Internet at Judith-B.Herman@fcc.gov.

SUPPLEMENTARY INFORMATION: OMB Control No.: 3060-0710.

Title: Policy and Rules Concerning the Implementation of the Local Competition Provisions in the Telecommunications Act of 1996, CC Docket No. 96-98.

Form No.: N/A.

Type of Review: Extension of a currently approved collection.

Respondents: Business or other for-profit.

Number of Respondents: 12,250 respondents; 1,070,250 responses.

Estimated Time Per Response: 425 hours (average).

Frequency of Response: On occasion reporting requirement, third party disclosure requirement and recordkeeping requirement.

Total Annual Burden: 1,504,620 hours.

Total Annual Cost: $937,000.

Needs and Uses: In June 2000, the Commission adopted rules and regulations to implement parts of sections 251 and 252 that affect local competition. Incumbent Local Exchange Carriers (ILECs) are required to offer interconnection, unbundled network elements, transport and termination, and wholesale rates for certain services to new entrants. ILECs must price such services at rates that are cost-based and just and reasonable and provide access to right-of-way as well as establish reciprocal compensation arrangements for the transport and termination of telecommunications traffic. The Commission is seeking a three year extension of the current OMB approval for this collection of information.

OMB Control No.: 3060-0972.

Title: Multi-Association Group (MAG) Plan for Regulation of Interstate Services of Non-Price Cap Incumbent Local Exchange Carriers and Interexchange Carriers.

Form Nos.: FCC Forms 507, 508, and 509.

Type of Review: Revision of a currently approved collection.

Respondents: Business or other for-profit, not-for-profit institutions, and state, local or tribal government.

Number of Respondents: 1,300 respondents; 6,455 responses.

Estimated Time Per Response: 1-93 hours.

Frequency of Response: On occasion, annual, quarterly, and one time reporting requirements, and third party disclosure requirement.

Total Annual Burden: 32,918 hours.

Total Annual Cost: $45,000.

Needs and Uses: The Commission modified, based on petitions for reconsideration of the MAG Order, the data collection and filing procedures and filing deadlines for implementation of the Interstate Common Line Support (ICLS) mechanism. The Commission modified this collection of information for projected cost and revenue data to: (1) Change an existing optional filing to correct previously filed data from April 10th to June 30th of every year; and (2) allow new opportunities each year to update data for the prior year. For actual cost and revenue data, the Commission modified the mandatory filing date of July 31st to December 31st; and eliminated a quarterly voluntary filing to update actual cost and revenue data. The FCC Forms 507, 508 and 509 remain unchanged.

Federal Communications Commission.
Marlene H. Dortch,
Secretary.

[FR Doc. 03-12967 Filed 5-22-03; 8:45 am]

BILLING CODE 6712-01-P